DEPARTMENT OF THE INTERIOR

Bureau of Land Management

[UT-080-1610-010J]

Notice of Availability of Vernal Field Office Proposed Resource Management Plan and Final Environmental Impact Statement (PRMP/FEIS)

AGENCY: Bureau of Land Management, Interior.

ACTION: Notice of availability.

SUMMARY: In accordance with the National Environmental Policy Act of 1969 and the Federal Land Policy and Management Act of 1976, the Bureau of Land Management (BLM) has prepared a Proposed Resource Management Plan/Final Environmental Impact Statement (PRMP/FEIS) for the Vernal Field Office.

DATES: The BLM planning regulations (43 CFR 1610.5-2) state that any person who meets the conditions as described in the regulations may protest the BLM's PRMP/FEIS. A person who meets the conditions and files a protest must file the protest within 30 days of the date that the Environmental Protection Agency publishes this notice in the Federal Register.

ADDRESSES: Copies of the Vernal Field Office PRMP/FEIS were sent to affected Federal, state, and local government agencies and to interested parties. Copies of the PRMP/FEIS are available for public inspection at:

Vernal Field Office, 170 South 500 East, Vernal, UT 84078

Utah State Office, 440 West 200 South, Salt Lake City, UT 84145

Interested persons may also review the PRMP/FEIS on the Internet at http://www.blm.gov/ut/st/en/fo/vernal/planning.html. All protests must be in writing and mailed to the following addresses:

Regular Mail: BLM Director (210), Attention: Brenda Hudgens-Williams, P.O. Box 66538, Washington, DC 20035

Overnight Mail: BLM Director (210), Attention: Brenda Hudgens-Williams, 1620 L Street, NW., Suite 1075, Washington, DC 20036.

FOR FURTHER INFORMATION, CONTACT: Kelly Buckner, Vernal Field Office, 170 South 500 East, Vernal, UT 84078; phone: (435) 781-4400; or e-mail at: Kelly_Buckner@blm.gov.

SUPPLEMENTARY INFORMATION: The Vernal RMP planning area is located in northeast Utah. The BLM administers approximately 1.7 million acres of surface estate and 2.8 million acres of Federal mineral estate within the planning area.

The Vernal RMP will provide future broad-scale management direction for land use allocations and allowable uses on public lands within the planning area. Implementation of the decisions of the PRMP/FEIS would apply only to BLM-administered public lands and Federal mineral estate. In the Vernal Field Office Draft RMP/EIS (DRMP/DEIS), which was released for a 90-day public review and comment period in January 2005, four alternatives were analyzed, including a No Action alternative. These alternatives were developed through issue identification during the scoping process. Such issues included: special designations (ACECs and WSRs), minerals and energy development, and recreational (OHV) use. In October 2007 a Supplemental DEIS was issued which considered an additional alternative emphasizing the protection of non-WSA lands with Wilderness Characteristics.

The PRMP/FEIS would designate no new Areas of Critical Environmental Concern (ACECs), and the continuation of six existing ACECs, totaling 123,227 acres. Resource use limitations that apply to the proposed ACECs include a range of different prescriptions as described in Table 1 below.

Table 1—Evaluation of Areas of Critical Environmental Concern
Area name | Values of concern | Resource use limitations | Acres
Browns Park | Cultural, wildlife, habitat, and scenic views | Closed to OHV use, or limited to designated routes | 18,474
Red Mountain—Dry Fork | Watershed, relict vegetation, and big game habitat | No surface occupancy, or timing/controlled surface use for oil and gas; OHV use limited to designated routes | 24,285
Nine-Mile Canyon | Cultural, and special status plant species | The area would be open subject to standard lease terms or managed as NSO for oil and gas leasing; OHV use would be limited to designated routes | 44,181
Lears Canyon | Relict vegetation | No surface occupancy for oil and gas, closed to mineral material sales | 1,375
Pariette | Wetland, wildlife, and plant habitat | No surface occupancy for oil and gas, closed to mineral material sales | 10,437
Red Creek | Watershed and wildlife habitat | No surface occupancy and controlled surface use; OHV use is limited to designated routes | 24,475

Comments on the Vernal Field Office DRMP/DEIS received from the public and internal BLM review were considered and incorporated as appropriate into the PRMP/FEIS. Public comments resulted in the addition of clarifying text, but did not significantly change proposed land use plan decisions.

Instructions for filing a protest with the Director of the BLM regarding the PRMP/FEIS may be found in the Dear Reader Letter of the PRMP/FEIS and at 43 CFR 1610.5-2.

E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov.

All protests, including the follow-up letter (if e-mailing or faxing) must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 43 CFR 1610.2, 43 CFR 1610.5-1.

Selma Sierra,
Utah State Director.

[FR Doc. E8-19394 Filed 8-21-08; 8:45 am]

BILLING CODE 4310-DQ-P